DEPARTMENT OF COMMERCE

International Trade Administration

[A-552-801]

Certain Frozen Fish Fillets From the Socialist Republic of Vietnam: Extension of Time Limit for the Final Results of the Expedited Sunset Review of the Antidumping Duty Order

AGENCY: Import Administration, International Trade Administration, Department of Commerce.

DATES: Effective Date: October 31, 2008.

FOR FURTHER INFORMATION CONTACT: Matthew Renkey, Import Administration, International Trade Administration, U.S. Department of Commerce, 14th Street & Constitution Avenue, NW., Washington, DC 20230; telephone: (202) 482-2312.

SUPPLEMENTARY INFORMATION:

Background

On July 1, 2008, the Department of Commerce (“the Department”) initiated a sunset review of the antidumping duty order on certain frozen fish fillets from the Socialist Republic of Vietnam (“Vietnam”) pursuant to section 751(c) of the Tariff Act of 1930, as amended (“the Act”). See Initiation of Five-year (“Sunset”) Review, 73 FR 37411 (July 1, 2008). Based on an adequate response from the domestic interested party and an inadequate response from the respondent interested party, the Department is conducting an expedited sunset review to determine whether revocation of the antidumping order would lead to the continuation or recurrence of dumping, pursuant to section 751(c)(3)(B) of the Act and section 351.218(e)(1)(ii)(C)(2) of the Department's regulations. See Letters to the International Trade Commission regarding the Sunset Reviews of the AD/CVD Orders Initiated in July 2007, dated July 22, 2008, and August 20, 2008.

Extension of Time Limits for Final Results

In accordance with section 751(c)(5)(B) of the Act, the Department may extend the 120-day time period for making its determination by not more than 90 days, if it determines that a review is extraordinarily complicated. As set forth in section 751(c)(5)(C)(i) of the Act, the Department may treat a sunset review as extraordinarily complicated if there are a large number of issues, as is the case in this proceeding. In particular, Petitioners filed comments raising various issues, some of which are complex and require additional time for analysis. Therefore, the Department has determined, pursuant to section 751(c)(5)(C)(i) of the Act, that the first sunset review of frozen fish fillets from Vietnam is extraordinarily complicated, as the Department must consider numerous arguments presented in Petitioners' July 31, 2008, substantive response. Based on the timing of the case, the final results of this expedited sunset review cannot be completed within the statutory time limit of 120 days. Accordingly, the Department is extending the time limit for the completion of the final results by 40 days, from October 29, 2008, to no later than December 8, 2008, in accordance with section 751(c)(5)(B) of the Act.

This notice is published pursuant to sections 751(c)(5)(B) and 777(i)(1) of the Act.

Dated: October 20, 2008.
Stephen J. Claeys,
Deputy Assistant Secretary for Import Administration.

[FR Doc. E8-25728 Filed 10-30-08; 8:45 am]

BILLING CODE 3510-DS-M